DEPARTMENT OF COMMERCE

United States Patent and Trademark Office

[Docket No.: PTO-C-2017-0024]

Notice of Public Meeting on Voluntary Initiatives To Combat Infringement of Intellectual Property in the Online Environment; Cancellation

AGENCY: United States Patent and Trademark Office, Department of Commerce.

ACTION: Notice of cancellation of public meeting.

SUMMARY: The United States Patent and Trademark Office published a notice in the Federal Register of June 22, 2017, concerning a public meeting on measuring the impact of voluntary initiatives undertaken to reduce intellectual property infringement, scheduled for July 17, 2017, at its headquarters in Alexandria, Virginia. This notice announces that the July 17, 2017 meeting has been cancelled.

FOR FURTHER INFORMATION CONTACT: For further information, please contact Peter Fowler, Charisma Hampton, or Nadine Herbert at the Office of Policy and International Affairs, by telephone at (571) 272-9300, or by email at peter.fowler@uspto.gov, charisma.hampton@uspto.gov, and nadine.herbert@uspto.gov. Please direct all media inquiries to the Office of the Chief Communications Officer, USPTO, at (571) 272-8400.

Dated: June 29, 2017.
Joseph Matal,
Performing the Functions and Duties of the Under Secretary of Commerce for Intellectual Property and Director of the United States Patent and Trademark Office.

[FR Doc. 2017-14072 Filed 7-3-17; 8:45 am]

BILLING CODE 3510-16-P